DEPARTMENT OF AGRICULTURE

Rural Housing Service

Notice of Funds Availability for the Section 533 Housing Preservation Grants for Fiscal Year 2013

SUMMARY: The Rural Housing Service (RHS), an Agency within Rural Development, announces that it is soliciting competitive applications under its Housing Preservation Grant (HPG) program. The HPG program is a grant program which provides qualified public agencies, private non-profit organizations including, but not be limited to, faith-based and community organizations, and other eligible entities, grant funds to assist very low- and low-income homeowners in repairing and rehabilitating their homes in rural areas. In addition, the HPG program assists rental property owners and cooperative housing complexes in repairing and rehabilitating their units if they agree to make such units available to low- and very low-income persons. This action is taken to comply with RHS regulations found in 7 CFR part 1944, subpart N, which require RHS to announce the opening and closing dates for receipt of pre-applications for HPG funds from eligible applicants. The intended effect of this Notice is to provide eligible organizations notice of these dates.

DATES: If submitting a paper pre-application, the closing deadline for receipt of all applications in response to this Notice is 5:00 p.m., local time for each Rural Development State Office on August 2, 2013. The application should be submitted to the Rural Development State Office where the project will be located. If submitting the pre-application in electronic format, the deadline for receipt is 5:00 p.m. Eastern Daylight Time on August 2, 2013. The pre-application closing deadline is firm as to the date and hour. RHS will not consider any pre-application that is received after the closing deadline. Applicants intending to mail pre-applications must provide sufficient time to permit delivery on or before the closing deadline date and time. Acceptance by the United States Postal Service or private mailer does not constitute delivery. Facsimile (FAX) and postage due applications will not be accepted.

SUPPLEMENTARY INFORMATION:

Paperwork Reduction Act

The reporting requirements contained in this Notice have been approved by the Office of Management and Budget under Control Number 0575-0115.

Overview

Funding Opportunity Title: Notice of Funds Availability for the Section 533 Housing Preservation Grants for Fiscal Year 2013.

Announcement Type: Initial Notice inviting pre-applications from qualified applicants for Fiscal Year 2013.

Catalog of Federal Domestic Assistance Numbers (CFDA): 10.433.

Dates: If submitting a paper pre-application, the closing deadline for receipt of all applications in response to this Notice is 5:00 p.m., local time for each Rural Development State Office on August 2, 2013. The applications should be sent to the Rural Development State Office where the project will be located. If submitting the pre-application in electronic format, the deadline for receipt is 5:00 p.m. Eastern Daylight Time on August 2, 2013. The pre-application closing deadline is firm as to the date and hour. RHS will not consider any pre-application that is received after the closing deadline. Applicants intending to mail pre-applications must provide sufficient time to permit delivery on or before the closing deadline date and time. Acceptance by the United States Postal Service or private mailer does not constitute delivery. Facsimile (FAX) and postage due applications will not be accepted.

I. Funding Opportunities Description

The funding instrument for the HPG Program will be a grant agreement. The term of the grant can vary from one to two years, depending on available funds and demand. No maximum or minimum grant levels have been established at the National level. You should contact the Rural Development State Office where the project will be located to determine the state allocation.

II. Award Information

For Fiscal Year 2013, $4,248,836.25 is available for the HPG Program. Rural Economic Area Partnership Zones and other funds will be distributed under a formula allocation to states pursuant to 7 CFR part 1940, subpart L, “Methodology and Formulas for Allocation of Loan and Grant Program Funds.” Decisions on funding will be based on pre-application scores. Anyone interested in submitting an application for funding under this program is encouraged to consult the Rural Development Web site periodically for updated information regarding the status of funding authorized for this program.

III. Eligibility Information

7 CFR part 1944, subpart N provides details on what information must be contained in the pre-application package. Entities wishing to apply for assistance should contact the Rural Development State Office where the project will be located to receive further information, the State allocation of funds, and copies of the pre-application package. Eligible entities for these competitively awarded grants include state and local governments, non-profit corporations including, but not be limited to faith-based and community organizations, Federally recognized Indian tribes, and consortia of eligible entities.

Federally recognized Indian tribes, pursuant to 7 CFR 1944.674, are exempt from the requirement to consult with local leaders including announcing the availability of its statement of activities for review in a newspaper.

As part of the application, all applicants must also provide a Dun and Bradstreet Data Universal Numbering System (DUNS) number and maintain registration in the Central Contractor Registration (CCR) database in accordance with 2 CFR part 25. As required by the Office of Management and Budget (OMB), all grant applicants must provide a DUNS number when applying for Federal grants, on or after October 1, 2003. Organizations can receive a DUNS number at no cost by calling the dedicated toll-free DUNS number request line at (866) 705-5711 or by accessing http://www.dnb.com/us/. Additional information concerning this requirement is provided in a policy directive issued by OMB and published in the Federal Register on June 27, 2003 (68 FR 38402-38405). Similarly, applicants may register for the CCR at https://www.uscontractorregistration.com/ or by calling (877) 252-2700.

The Department of Agriculture (USDA) is participating as a partner in the Government-wide Grants.gov site. Electronic applications must be submitted through the Grants.gov Web site at: http://www.grants.gov, following the instructions found on the Web site. Please be mindful that the application deadline for electronic format differs from the deadline for paper format. The electronic format deadline will be based on Eastern Daylight Time. The paper format deadline is local time for each Rural Development State Office.

In addition to the electronic application at the http://www.grants.gov Web site, all applicants must complete and submit the Fiscal Year 2013 pre-application for Section 533 HPG, a copy of which is included with this Notice. Applicants are encouraged to submit this pre-application form electronically by accessing the Web site: http://www.rurdev.usda.gov/HAD-HPG_Grants.html and clicking on the link for “Fiscal Year 2013 Pre-application for Section 533 Housing Preservation Grants (HPG).”

Applicants are encouraged but not required, to also provide an electronic copy of all hard copy forms and documents submitted in the pre-application/application package as requested by this Notice. The forms and documents must be submitted as read-only Adobe Acrobat PDF files on an electronic media such as CDs, DVDs or USB drives. For each electronic device that you submit, you must include a Table of Contents to list all of the documents and forms on that device. The electronic medium must be submitted to the local Rural Development State Office where the project will be located.

Please Note: If you receive a loan or grant award under this Notice, USDA reserves the right to post all information submitted as part of the pre-application/application package which is not protected under the Privacy Act on a public Web site with free and open access to any member of the public.

IV. Application and Submission Information

All pre-applications must meet the requirements of 7 CFR part 1944, subpart N, as well as comply with the provisions of this Notice. Pre-applications can be submitted either electronically using the Section 533 pre-application form as found at http://www.rurdev.usda.gov/HAD-HPG_Grants.html or by hard copy to the appropriate Rural Development State Office where the project will be located. A hard-copy of the electronic pre-application form is included with this Notice. Note: Submission of the electronic Section 533 pre-application form does not constitute submission of the entire pre-application package which requires additional forms and supporting documentation as listed in Section V of this Notice. Although applicants are encouraged to submit the pre-application form electronically, the complete package in its entirety must still be submitted to the local Rural Development State Office where the project will be located.

Hard copy pre-applications that are submitted to a Rural Development State Office will be date and time stamped to evidence timely or untimely receipt, and upon request, Rural Development will provide the applicant with a written acknowledgement of receipt. A list of Rural Development State Office contacts may be found in the Section VIII, Agency Contacts, of this Notice. Incomplete pre-applications will be returned to the applicant. No pre-application will be accepted after 5:00 p.m., local time, for paper copies or 5:00 p.m. Eastern Daylight Time for electronic applications on the application deadline previously mentioned unless that date and time is extended by a Notice published in the Federal Register.

Please note that all applicants must obtain DUNS number and register in the CCR prior to submitting a pre-application pursuant to 2 CFR 25.200(b). In addition, an entity applicant must maintain registration of the CCR database at all times during which it has an active Federal award or an application or plan of construction by the Agency. Similarly all recipients of Federal Financial assistance are required to report information about first-tier subawards and executive compensation in accordance with 2 CFR part 170. So long as an entity applicant does not have exception under 2 CFR 170.110(b), the applicant must have necessary processes and systems in place to comply with the reporting requirements should the applicant receive funding. See 2 CFR 170.200(b).

V. Application Review Information

Applicants wishing to apply for assistance must make their statement of activities available to the public for comment. The applicant(s) must announce the availability of its statement of activities for review in a newspaper of general circulation in the project area and allow at least 15 days for public comment. The start of this 15-day period must occur no later than 16 days prior to the last day for acceptance of pre-applications by Rural Development.

All applications for Section 533 funds must be filed electronically or with the appropriate Rural Development State Office and must meet the requirements of this Notice and 7 CFR part 1944, subpart N. Pre-applications determined not eligible and/or not meeting the selection criteria will be notified by the Rural Development State Office. All adverse determinations are appealable pursuant to 7 CFR part 11. Instructions on the appeal process will be provided at the time the applicant is notified of the adverse decision.

If submitting a paper application, applicants will file an original and two copies of Standard Form (SF) 424, “Application for Federal Assistance,” and supporting information with the appropriate Rural Development State Office. A pre-application package, including SF-424, is available in any Rural Development State Office. In addition, the pre-application form included with this Notice must be submitted either electronically or in hard copy form with all supporting documentation.

All pre-applications shall be accompanied by the following information which Rural Development will use to determine the applicant's eligibility to undertake the HPG program and to evaluate the pre-application under the project selection criteria of 7 CFR 1944.679. References to private non-profit organizations include, but are not limited to faith and community-based organizations:

(a) A statement of activities proposed by the applicant for its HPG program as appropriate to the type of assistance the applicant is proposing, including:

(1) A complete discussion of the type of and conditions for financial assistance for housing preservation, including whether the request for assistance is for a homeowner assistance program, a rental property assistance program, or a cooperative assistance program;

(2) The process for selecting recipients for HPG assistance, determining housing preservation needs of the dwelling, performing the necessary work, and monitoring/inspecting work performed;

(3) A description of the process for identifying potential environmental impacts in accordance with 7 CFR 1944.672, and the provisions for compliance with Stipulation I, A-G of the Programmatic Memorandum of Agreement, also known as PMOA, (RD Instruction 2000-FF, available in any Rural Development State Office or at http://www.rurdev.usda.gov/SupportDocuments/2000ff.pdf) in accordance with 7 CFR 1944.673(b);

(4) The development standard(s) the applicant will use for the housing preservation work; and, if the applicant will use the Rural Development standards for existing dwellings, the evidence of its acceptance by the jurisdiction where the grant will be implemented;

(5) The time schedule for completing the program;

(6) The staffing required to complete the program;

(7) The estimated number of very low- and low-income minority and non-minority persons the grantee will assist with HPG funds; and, if a rental property or cooperative assistance program, the number of units and the term of restrictive covenants on their use for very low- and low-income persons;

(8) The geographical area(s) to be served by the HPG program;

(9) The annual estimated budget for the program period based on the financial needs to accomplish the objectives outlined in the proposal. The budget should include proposed direct and indirect administrative costs, such as personnel, fringe benefits, travel, equipment, supplies, contracts, and other cost categories, detailing those costs for which the grantee proposes to use the HPG grant separately from non-HPG resources, if any. The applicant budget should also include a schedule (with amounts) of how the applicant proposes to draw HPG grant funds, i.e., monthly, quarterly, lump sum for program activities, etc.;

(10) A copy of an indirect cost proposal as required in 7 CFR parts 3015, 3016, and 3019, as applicable, when the applicant has another source of Federal funding in addition to the Rural Development HPG program;

(11) A brief description of the accounting system to be used;

(12) The method of evaluation to be used by the applicant to determine the effectiveness of its program which encompasses the requirements for quarterly reports to Rural Development in accordance with 7 CFR 1944.683(b), frequency of audits according to 7 CFR 1944.688(e), 7 CFR parts 3015 and 3016, and the monitoring plan for rental properties and cooperatives (when applicable) according to 7 CFR 1944.689;

(13) The source and estimated amount of other financial resources to be obtained and used by the applicant for both HPG activities and housing development and/or supporting activities;

(14) The use of program income, if any, and the tracking system used for monitoring same;

(15) The applicant's plan for disposition of any security instruments held by them as a result of its HPG activities in the event of its loss of legal status;

(16) Any other information necessary to explain the proposed HPG program; and

(17) The outreach efforts outlined in 7 CFR 1944.671(b).

(b) Complete information about the applicant's experience and capacity to carry out the objectives of the proposed HPG program.

(c) Evidence of the applicant's legal existence, a copy of, or an accurate reference to, the specific provisions of State (or Tribal) law under which the applicant is organized; a certified copy of the applicant's Articles of Incorporation and Bylaws or other evidence of corporate existence; certificate of incorporation for other than applicants that are not public bodies; evidence of good standing from the State (or Tribe) when the corporation has been in existence 1 year or more; and the names and addresses of the applicant's members, directors and officers. If other organizations are members of the applicant-organization, or the applicant is a consortium, pre-applications should be accompanied by the names, addresses, and principal purpose of the other organizations. If the applicant is a consortium, documentation showing compliance with paragraph (4)(ii) under the definition of “organization” in 7 CFR 1944.656 must also be included.

(d) For a private non-profit entity, the most recently audited statement and a current financial statement dated and signed by an authorized officer of the entity showing the amounts and specific nature of assets and liabilities together with information on the repayment schedule and status of any debt(s) owed by the applicant.

(e) A brief narrative statement which includes information about the area to be served and the need for improved housing (including both percentage and the actual number of both very low-income and low-income minority households and substandard housing), the need for the type of housing preservation assistance being proposed, the anticipated use of HPG resources for historic properties, the method of evaluation to be used by the applicant in determining the effectiveness of its efforts.

(f) A statement containing the component for alleviating any overcrowding as defined by 7 CFR 1944.656.

(g) Applicant must submit an original and one copy of Form RD 1940-20, “Request for Environmental Information,” prepared in accordance with Exhibit F-1 of RD Instruction 1944-N (available in any Rural Development State Office or at http://forms.sc.egov.usda.gov/efcommon/eFileServices/eForms/RD1940-20.PDF.

(h) Applicant must also submit a description of its process for:

(1) Identifying and rehabilitating properties listed on, or eligible for listing on, the National Register of Historic Places;

(2) Identifying properties that are located in a floodplain or wetland;

(3) Identifying properties located within the Coastal Barrier Resources System; and

(4) Coordinating with other public and private organizations and programs that provide assistance in the rehabilitation of historic properties (Stipulation I, D, of the PMOA, RD Instruction 2000-FF), available in any Rural Development State Office or at: http://www.rurdev.usda.gov/SupportDocuments/2000ff.pdf.

(i) The applicant must also submit evidence of the State Historic Preservation Office's (SHPO), or where appropriate the Tribal Historic Preservation Office's (THPO) concurrence in the proposal, or in the event of nonconcurrence, a copy of SHPO's or (THPO's) comments together with evidence that the applicant has received the Advisory Council on Historic Preservation's (Council) advice as to how the disagreement might be resolved, and a copy of any advice provided by the Council.

(j) The applicant must submit written statements and related correspondence reflecting compliance with 7 CFR 1944.674(a) and (c) regarding consultation with local government leaders in the preparation of its program and the consultation with local and state government pursuant to the provisions of Executive Order 12372.

(k) The applicant is to make its statement of activities available to the public for comment prior to submission to Rural Development pursuant to 7 CFR 1944.674(b). The application must contain a description of how the comments (if any were received) were addressed.

(l) The applicant must submit an original and one copy of Form RD 400-1, “Equal Opportunity Agreement,” and Form RD 400-4, “Assurance Agreement,” in accordance with 7 CFR 1944.676. These forms can be obtained at any state office or at http://forms.sc.egov.usda.gov/efcommon/eFileServices/eForms/RD400-1.PDF and http://forms.sc.egov.usda.gov/efcommon/eFileServices/eForms/RD400-4.PDF.

Applicants should review 7 CFR part 1944, subpart N for a comprehensive list of all application requirements.

VI. Selection Criteria

In accordance with 7 CFR 1944.679 applicants and proposed projects must meet the following criteria:

(a) Provide a financially feasible program of housing preservation assistance. “Financially feasible” is defined as proposed assistance which will be affordable to the intended recipient or result in affordable housing for very low- and low-income persons.

(b) Serve eligible rural areas with a concentration of substandard housing for households with very low- or low-income.

(c) Be an eligible applicant as defined in 7 CFR 1944.658.

(d) Meet the requirements of consultation and public comment in accordance with 7 CFR 1944.674.

(e) Submit a complete pre-application as outlined in 7 CFR 1944.676.

VII. Points System

For applicants meeting all of the requirements listed above, the Rural Development State Offices will then use weighted criteria in accordance with 7 CFR part 1944, subpart N to select the grant recipients. Each preapplication and its accompanying statement of activities will be evaluated and, based solely on the information contained in the pre-application; the applicant's proposal will be numerically rated on each selection criteria within the point range provided. The highest-ranking applicant(s) will be selected based on allocation of funds available to the State.

(a) Points are awarded based on the percentage of very low-income persons that the applicant proposes to assist, using the following scale:

(1) More than 80%: 20 points

(2) 61% to 80%: 15 points

(3) 41% to 60%: 10 points

(4) 20% to 40%: 5 points

(5) Less than 20%: 0 points

(b) The applicant's proposal is expected to result in the following percentage of HPG fund use (excluding administrative costs) in comparison to the total cost of unit preservation. This percentage reflects maximum repair or rehabilitation results with the least possible HPG funds due to leveraging, innovative financial assistance, owner's contribution or other specified approaches. Points are awarded based on the following percentage of HPG funds (excluding administrative costs) to total funds:

(1) 50% or less: 20 points

(2) 51% to 65%: 15 points

(3) 66% to 80%: 10 points

(4) 81% to 95%: 5 points

(5) 96% to 100%: 0 points

(c) The applicant has demonstrated its administrative capacity in assisting very low- and low-income persons to obtain adequate housing based on the following (30 points maximum):

(1) The organization or a member of its staff has at least one or more years experience successfully managing and operating a rehabilitation or weatherization type program: 10 points.

(2) The organization or a member of its staff has at least one or more years experience successfully managing and operating a program assisting very low- and low-income persons obtain housing assistance: 10 points.

(3) If the organization has administered grant programs, there are no outstanding or unresolved audit or investigative findings which might impair carrying out the proposal: 10 points.

(d) The proposed program will be undertaken entirely in rural areas outside Metropolitan Statistical Areas (MSAs), identified by Rural Development as having populations in excess of 10,000, but not in excess of 20,000 or in remote parts of other rural areas (i.e., rural areas contained in MSAs with less than 5,000 population) as defined in 7 CFR 1944.656: 10 points.

(e) The program will use less than 20 percent of HPG funds for administration purposes:

(1) More than 20%: Not eligible

(2) 20%: 0 points

(3) 19%: 1 point

(4) 18%: 2 points

(5) 17%: 3 points

(6) 16%: 4 points

(7) 15% or less: 5 points

(f) The proposed program contains a component for alleviating overcrowding as defined in 7 CFR 1944.656: 5 points.

(g) In the event more than one preapplication receives the same amount of points, those pre-applications will then be ranked based on the actual percentage of very-low income persons that the applicant proposes to assist. Further, in the event that preapplications are still tied, then those preapplications still tied will be ranked based on the percentage for HPG fund use (low to high). Further, for applications where assistance to rental properties or cooperatives is proposed, those still tied will be further ranked based on the number of years the units are available for occupancy under the program (a minimum of five years is required). For this part, ranking will be based from most to least number of years.

Finally, if there is still a tie, then a lottery system will be used. After the award selections are made all applicants will be notified of the status of their applications by mail.

VIII. Agency Contacts

Applicants must contact the Rural Development State Office serving the state in which they desire to submit an application to receive further information and copies of the application package. Rural Development will date and time stamp incoming applications to evidence timely and untimely receipt, and, upon request, will provide the applicant with a written acknowledgment of receipt. A listing of Rural Development State Offices, their addresses, telephone numbers, and person to contact follows:

Note: Telephone numbers listed are not toll-free.

Alabama State Office, Suite 601, Sterling Centre, 4121 Carmichael Road, Montgomery, Alabama 36106-3683, (334) 279-3456, TDD (800) 877-8339, Melinda George.

Alaska State Office, 800 West Evergreen, Suite 201, Palmer, Alaska 99645, (907) 761-7740, TDD (907) 761-7786, Cynthia Jackson.

Arizona State Office, Phoenix Courthouse and Federal Building, 230 North First Avenue, Suite 206, Phoenix, Arizona 85003-1706, (602) 280-8764, TDD (602) 280-8705, Ernie Wetherbee.

Arkansas State Office, 700 West Capitol Avenue, Room 3416, Little Rock, Arkansas 72201-3225, (501) 301-3258, TDD (501) 301-3279, Clinton King.

California State Office, 430 G Street, #4169, Davis, California 95616-4169, (530) 885-6505, TDD (530) 792-5848, Debra Moretton.

Colorado State Office, Denver Federal Center, Building 56, Room 2300, P.O. Box 25426, Denver, Colorado 80225-0426, (720) 544-2924, TDD (800) 659-3656, Donald Nunn.

Connecticut, Served by Massachusetts State Office.

Delaware and Maryland State Office, 1260 Maryland Avenue, Suite 100, Hagerstown, Maryland 21740, (302) 797-0500, ext. 5, TDD (302) 857-3585, Brad King.

Florida and Virgin Islands State Office, 4440 N.W. 25th Place, Gainesville, Florida 32606-6563, (352) 338-3438, TDD (352) 338-3499, Theresa Purnell.

Georgia State Office, Stephens Federal Building, 355 East Hancock Avenue, Athens, Georgia 30601-2768, (706) 546-2164, TDD (706) 546-2034, Revonda Pearson and Jennifer Daughtery.

Hawaii State Office, (Services all Hawaii, American Samoa, Guam, and Western Pacific), Room 311, Federal Building, 154 Waianuenue Avenue, Hilo, Hawaii 96720, (808) 933-8303, TDD (808) 933-8321, Nathan Riedel.

Idaho State Office, Suite A1, 9173 West Barnes Drive, Boise, Idaho 83709, (208) 327-6466, TDD (800) 877-8339, Yvette Pachecho.

Illinois State Office, 2118 West Park Court, Suite A, Champaign, Illinois 61821-2986, (217) 403-6225, TDD (217) 403-6240, Brenda Barr.

Indiana State Office, 5975 Lakeside Boulevard, Indianapolis, Indiana 46278, (317) 290-3100, ext. 423, TDD (317) 295-5799, Michael Boards.

Iowa State Office, 210 Walnut Street, Room 873, Des Moines, Iowa 50309, (515) 284-4493, TDD (515) 284-4858, Shannon Case and Dan Koetters.

Kansas State Office, 1303 SW First American Place, Suite 100, Topeka, Kansas 66604-4040, (785) 271-2700, TDD (785) 271-2767, Mike Resnik.

Kentucky State Office, 771 Corporate Drive, Suite 200, Lexington, Kentucky 40503, (859) 224-7357, TDD (859) 224-7422, Paul Higgins.

Louisiana State Office, 3727 Government Street, Alexandria, Louisiana 71302, (318) 473-7962, TDD (318) 473-7655, Yvonne R. Emerson.

Maine State Office, Post Office Box 405, Bangor, Maine 04402-0405, (207) 990-9110, TDD (207) 942-7331, Bob Nadeau.

Maryland, Served by Delaware State Office.

Massachusetts, Connecticut, & Rhode Island State Office, 451 West Street, Suite 2, Amherst, Massachusetts 01002, (413) 253-4312, TDD (413) 253-4590, Julie Hanieski.

Michigan State Office, 3001 Coolidge Road, Suite 200, East Lansing, Michigan 48823, (517) 324-5194, TDD (517) 324-5169, Julie Putnam.

Minnesota State Office, 375 Jackson Street Building, Suite 410, St. Paul, Minnesota 55125, (763) 689-3354 x 4, TDD (651) 602-7830, Linda Swanson.

Mississippi State Office, Federal Building, Suite 831, 100 West Capitol Street, Jackson, Mississippi 39269, (601) 965-4325, TDD (601) 965-5717, Darnella Smith-Murray.

Missouri State Office, 601 Business Loop 70 West, Parkade Center, Suite 235, Columbia, Missouri 65203, (573) 876-0976, TDD (573) 876-9480, Nancy Long.

Montana State Office, 2229 Boot Hill Court, Bozeman, Montana 59715, (406) 585-2559, TDD (800) 253-4091, Sandi Messenger.

Nebraska State Office, Federal Building, Room 152, 100 Centennial Mall N, Lincoln, Nebraska 68508, (402) 437-5035, TDD (402) 437-5093, Sharon Kluck.

Nevada State Office, 1390 South Curry Street, Carson City, Nevada 89703-9910, (775) 887-1222, ext. 106, TDD 711 Relay (775) 887-1222, Mona Sargent.

New Hampshire State Office, Concord Center, 10 Ferry Street, Suite 218, Concord, New Hampshire 03301, (603) 223-6049, TDD (603) 223-6083, Daphne Fenney.

New Jersey State Office, 5th Floor North, Suite 500, 8000 Midlantic Drive, Mt. Laurel, New Jersey 08054, (856) 787-7773, TDD (856) 787-7784, Derrick S. Waltz.

New Mexico State Office, 6200 Jefferson Street NE., Room 255, Albuquerque, New Mexico 87109, (505) 761-4973, TDD (800) 877-8339, Art Garcia.

New York State Office, The Galleries of Syracuse, 441 South Salina Street, Suite 357 5th Floor, Syracuse, New York 13202, (315) 477-6418, TDD (315) 477-6447, Erin Farley.

North Carolina State Office, 4405 Bland Road, Suite 260, Raleigh, North Carolina 27609, (919) 873-2055, TDD 711 Relay (919) 873-2061, Beverly Casey.

North Dakota State Office, Federal Building, Room 208, Post Office Box 1737, Bismarck, North Dakota 58502, (701) 225-9168, ext. 4, TDD (800) 366-6888, Steve Lervik.

Ohio State Office, Federal Building, Room 507, 200 North High Street, Columbus, Ohio 43215-2477, (614) 255-2409, TDD (800) 877-8339, Cathy Simmons.

Oklahoma State Office, 100 USDA, Suite 108, Stillwater, Oklahoma 74074-2654, (580) 237-4321, TDD (405) 742-1007, Lesley Worthan.

Oregon State Office, 1201 NE Lloyd Boulevard, Suite 801, Portland, Oregon 97232-1274, (503) 414-3353, TDD (503)414-3387, Rod Hansen.

Pennsylvania State Office, One Credit Union Place, Suite 330, Harrisburg, Pennsylvania 17110-2996, (717) 237-2282, TDD (717) 237-2261, Martha Hanson.

Puerto Rico State Office, IBM Building, Suite 601, Munoz Rivera Ave. #654, San Juan, Puerto Rico 00918, (787) 859-2878, ext. 119, TDD (787) 766-5332, Teremy Hernandez.

Rhode Island, Served by Massachusetts State Office.

South Carolina State Office, Strom Thurmond Federal Building, 1835 Assembly Street, Room 1007, Columbia, South Carolina 29201, (803) 253-3244, TDD (803) 765-5697, Rosemary Hickman.

South Dakota State Office, Federal Building, Room 210, 200 Fourth Street SW., Huron, South Dakota 57350, (605) 352-1132, TDD (605) 352-1147, Linda Weber.

Tennessee State Office, Suite 300, 3322 West End Avenue, Nashville, Tennessee 37203-1084, (615) 783-1300, TDD (615) 783-1397, Abby Boggs.

Texas State Office, Federal Building, Suite 102, 101 South Main, Temple, Texas 76501, (254) 742-9772, TDD (800) 877-8339, Ana Placencia.

Utah State Office, Wallace F. Bennett Federal Building, 125 South State Street, Room 301, Salt Lake City, Utah 84138, (801) 524-4308, TDD 711 Relay (801) 524-4308, Janice Kocher.

Vermont State Office, City Center, 3rd Floor, 89 Main Street, Montpelier, Vermont 05602, (802) 828-6028, TDD (802) 223-6365, Tammy Surprise.

Virgin Islands, Served by Florida State Office.

Virginia State Office, Culpeper Building, Suite 238, 1606 Santa Rosa Road, Richmond, Virginia 23229, (804) 287-1596, TDD (804) 287-1753, CJ Michels.

Washington State Office, 1835 Black Lake Boulevard, Suite B, Olympia, Washington 98512, (360) 704-7706, TDD (800) 833-6384, Bill Kirkwood.

Western Pacific Territories, Served by Hawaii State Office.

West Virginia, 530 Freedom Road, Ripley, West Virginia 25271-9794, (304) 372-3441, ext. 105, TDD (304) 284-4836, Penny Thaxton.

Wisconsin State Office, 4949 Kirschling Court, Stevens Point, Wisconsin 54481, (715) 345-7620, TDD (715) 345-7614, Dave Schwobe or Julie Czappa.

Wyoming State Office, Post Office Box 82601, Casper, Wyoming 82602-5006, (307) 233-6733, TDD (800) 877-9965, Laura Koenig.

FOR FURTHER INFORMATION CONTACT: For general information, applicants may contact Bonnie Edwards-Jackson, Finance and Loan Analyst, Multi-Family Housing Preservation and Direct Loan Division, USDA Rural Development, STOP 0781, 1400 Independence Avenue SW., Washington, DC 20250-0781, telephone (202) 690-0759 (voice) (this is not a toll free number) or (800) 877-8339 (TDD-Federal Information Relay Service) or via email at, Bonnie.Edwards@wdc.usda.gov.

VIV. Non-Discrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and you wish to file either an EEO or program complaint please contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: June 11, 2013.
Tammye Treviño,
Administrator, Rural Housing Service.

BILLING CODE 3410-XV-P

[FR Doc. 2013-14400 Filed 6-17-13; 8:45 am]

BILLING CODE 3410-XV-C